DEPARTMENT OF AGRICULTURE

Forest Service

Proposed New Recreation Fees: Shawnee National Forest

AGENCY: Forest Service, USDA.

ACTION: Notice of proposed new recreation fees.

SUMMARY: The Shawnee National Forest is proposing to charge new fees at six recreation sites. All sites are highly developed day use sites with significant infrastructure. They provide amenities and special opportunities that are beyond those typical of Shawnee National Forest day use sites. Fees are assessed based on the level of amenities and services provided, cost of operation and maintenance, market assessment, and public comment. The fees listed are proposed and will be determined upon further analysis and public comment. Funds from fees would be used for the continued operation and maintenance of these recreation sites. An analysis of the nearby state and private recreation opportunities with similar amenities show that the proposed fees are reasonable for the area.

DATES: Comments on the fee changes will be accepted December 26, 2019. Following the public comment period, the fee proposal will be subject to review and recommendation by the Eastern Region Recreation Resource Advisory Committee. If approved by the Regional Forester, implementation of new fees will occur no sooner than 180 days from the date of publication in the Federal Register.

ADDRESSES: Lisa Helmig, Acting Forest Supervisor, Shawnee National Forest, 50 Highway 145N, Harrisburg, Illinois 62946.

FOR FURTHER INFORMATION CONTACT: Laura Lecher, Shawnee National Forest Recreation Staff Officer, 618-253-7114. Information about proposed fee changes can also be found on the Shawnee National Forest website: https://www.fs.usda.gov/shawnee.

SUPPLEMENTARY INFORMATION: Garden of the Gods Recreation Area (Saline County, IL) already includes a fee campground (Pharaoh Campground). This proposal will not affect the campground fee but will institute a $5 per vehicle fee for the day use area associated with the quarter mile paved “Observation Trail” that leads visitors through unique rock formations and along the tops of the bluffs overlooking the Shawnee Hills and Garden of the Gods Wilderness Area.

Pounds Hollow Recreation Area (Gallatin County, IL) includes the only non-concession-operated swim beach on the forest. Pine Ridge Campground is an existing fee site within the recreation area. This proposal is to institute a $5 per vehicle fee for the swimming beach and picnic shelter on Pounds Hollow Lake.

Johnson Creek Recreation Area (Jackson County, IL) includes an existing fee campground (Johnson Creek Campground). This proposal will not affect the campground fee but would institute a $5 per vehicle day-use fee for the boat launch on Kinkaid Lake.

Pomona Boat Launch (Jackson County, IL) is a jointly managed boat launch on Cedar Lake. Pomona Township maintains the parking area and mowed grounds, while the Forest Service manages the launch, toilets, and picnic facilities. This proposal would institute a $5 per vehicle day-use fee for the boat launch area.

Little Grand Canyon (Jackson County, IL) is a trailhead providing access to a National Natural Landmark area. This proposal would institute a $5 per vehicle day-use fee for the trailhead facilities.

Bell Smith Springs Interpretive Site (Pope County, IL) provides access to a National Natural Landmark area. This proposal would institute a $5 per vehicle day-use fee for the interpretive site facilities.

A Shawnee National Forest annual pass will also be created which will grant the holder year-round use of the recreation facilities at these day-use-fee sites. The cost for the annual pass is proposed to be $30, final cost will be determined through this public comment process and further analysis.

The Federal Recreation Lands Enhancement Act (Title VIII, Pub. L. 108-447) directed the Secretary of Agriculture to publish a six month advance notice in the Federal Register whenever new recreation fee areas are established. Once public involvement is complete, these new fees will be reviewed by a Recreation Resource Advisory Committee prior to a final decision and implementation.

Revenue generated by the proposed fees would be used to leverage federal funding, grants, and partnership contributions to fund maintenance and upgrades to features and facilities such as toilets, docks and ramps, picnic tables and grills, parking lots and access roads, interpretive and informational signing, and to restore natural resources damaged by visitor use.

Dated: October 29, 2019.
Richard A. Cooksey,
Acting Associate Deputy Chief, National Forest System.

[FR Doc. 2019-25433 Filed 11-22-19; 8:45 am]

BILLING CODE 3411-15-P